DEPARTMENT OF HEALTH AND HUMAN SERVICES

Administration for Children and Families

Administration on Developmental Disabilities 2004 Projects of National Significance; Notice of Corrections for the FY04 Projects of National Significance Program Announcement HHS-2004-ACF-ADD-DN-0003, CFDA# 93.631

AGENCY: Administration on Developmental Disabilities, ACF, DHHS.

ACTION: Notice of corrections.

SUMMARY: This notice is to inform interested parties of corrections to the Projects of National Significance Program Announcement that was published on Thursday, June 17, 2004 (69 FR 33905). The following corrections should be noted:

(1) Under Priority Areas I, II, and III, for ‘Submission Dates and Times’, Please Delete the following address for applications hand carried by applicants:

“U.S. Department of Health and Human Services, Administration for Children and Families, Office of Grants Management, 370 L'Enfant Promenade, SW., 8th Floor, Washington, DC 20447. Attention Lois Hodge.”

Please Replace this address with the following:

U.S. Department of Health and Human Services, Administration for Children and Families, Division of Discretionary Grants, ACF Mail Center, 2nd Floor Aerospace Center, 901 D Street, SW., Washington, DC 20024, Attention: Lois Hodge.

(2) Under Priority Areas I, II, and III, ‘Other Submission Requirements’ Please Delete the following address for hand delivered applications:

“U.S. Department of Health and Human Services, Administration for Children and Families, Office of Grants Management, 370 L'Enfant Promenade, SW., 8th Floor, Washington DC 20447. Attention Lois Hodge”.

Please Replace this address with the following:

U.S. Department of Health and Human Services, Administration for Children and Families, Division of Discretionary Grants, ACF Mail Center, 2nd Floor Aerospace Center, 901 D Street, SW., Washington, DC 20024, Attention: Lois Hodge.

(3) Under I. Funding Opportunity Description, ‘Other General Information’, ‘Project Periods for Awards’, Please Delete the following sentence:

“Three year project periods with twelve month budget periods.”

Please Replace this sentence with the following:

“The project period for Priority Area I is a five year project period with twelve month budget periods. The project period for Priority Area II is a one year project period of one twelve month budget period. The project period for Priority Area III is a three year project period with twelve month budget periods.”

(4) Under Priority Area I, ‘Award Information’, ‘Project Periods for Awards’ Please Delete the following sentence:

“This priority area is inviting applications for project periods up to three years.”

Please Replace with the following sentence:

“This priority area is inviting applications for project periods for up to five years.”

All information in this Notice of Correction is accurate and replaces information specified in the June 17 Notice. Applications are still due by the deadline date that was published in the June 17 Notice of August 2, 2004.

Contact Info: For further information please contact The Administration on Developmental Disabilities at (202) 690-5985 or amyers@acf.hhs.gov.

Dated: July 1, 2004.
Patricia A. Morrissey,
Commissioner, Administration on Developmental Disabilities.

[FR Doc. 04-15676 Filed 7-9-04; 8:45 am]

BILLING CODE 4184-01-P